DEPARTMENT OF HEALTH AND HUMAN SERVICES

Centers for Disease Control and Prevention

[60Day-01-48]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

The National Death Index (NDI)—Renewal—National Center for Health Statistics (NCHS), Centers for Disease Control and Prevention (CDC). The National Death Index (NDI) is a service of the National Center for Health Statistics that assists health and medical researchers determine the vital status of their study subjects. The NDI is a national data base containing identifying death record information submitted annually to NCHS by all the state vital statistics offices, beginning with deaths in 1979. Searches against the NDI file provide the states and dates of death and the death certificate numbers of deceased study subjects. With the recent implementation of the NDI Plus service, researchers now have the option of also receiving cause of death information for deceased subjects, thus reducing the need to request copies of death certificates from the states. The NDI Plus option currently provides the ICD codes for the underlying and multiple causes of death for the years 1979-1999. The five administrative forms are completed by health researchers in government, universities, and private industry in order to apply for NDI services and to submit records of study subjects for computer matching against the NDI file. The total cost to respondents is estimated at $5,685.

Respondents | No. of respondents | No. of responses/respondents | Avg. burden/response (in hrs.) | Total burden (in hrs.)
Government researchers | 48 | 1 | 1.89 | 91
University researchers | 60 | 1 | 1.89 | 113
Private industry researchers | 12 | 1 | 1.89 | 23
Total |  |  |  | 227

Dated: June 15, 2001.
Chuck Gollmar,
Acting Associate Director for Policy, Planning and Evaluation, Centers for Disease Control and Prevention.

[FR Doc. 01-15601 Filed 6-20-01; 8:45 am]

BILLING CODE 4163-18-M